DEPARTMENT OF THE INTERIOR

Fish and Wildlife Service

Draft Comprehensive Conservation Plan and Environmental Impact Statement for the Upper Mississippi River National Wildlife and Fish Refuge, Illinois, Iowa, Minnesota, and Wisconsin

AGENCY: Fish and Wildlife Service, Interior.

ACTION: Notice of availability.

SUMMARY: The U.S. Fish and Wildlife Service announces that the Draft Comprehensive Conservation Plan (CCP) and Environmental Impact Statement (EIS) is available for Upper Mississippi River National Wildlife and Fish Refuge.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: Comments on the Draft CCP/EIS must be received on or before August 31, 2005.

ADDRESSES: Copies of the Draft CCP are available on compact disk or hard copy. You may access and download a copy via the planning Web site: (http://www.fws.gov/midwest/planning/uppermiss/index.html) or you may obtain a copy by writing to the following address: U.S. Fish and Wildlife Service, Division of Conservation Planning, Bishop Henry Whipple Federal Building, 1 Federal Drive, Fort Snelling, Minnesota 55111.

All comments should be addressed to Upper Mississippi National Wildlife and Fish Refuge, Attention: CCP Comment, 51 East 4th Street, Room 101, Winona, Minnesota 55987, or direct e-mail to r3planning@fws.gov. Comments may also be submitted through the Service's regional Web site at: http://www.fws.gov/midwest/planning/.

FOR FURTHER INFORMATION CONTACT: Don Hultman at (507) 452-4232.

SUPPLEMENTARY INFORMATION: The Upper Mississippi River National Wildlife and Fish Refuge encompasses 240,000 acres along 261 miles of Mississippi River floodplain in Minnesota, Wisconsin, Iowa, and Illinois. The Refuge was established by Congress in 1924 to provide a refuge and breeding ground for migratory birds, fish, other wildlife, and plants. The Refuge is perhaps the most important corridor of habitat in the central United States due to its species diversity and abundance, and it is the most visited refuge in the United States with 3.7 million annual visitors.

The focus of the CCP over the next 15 years will be on safeguarding existing habitat; enhancing floodplain habitat in partnership with the U.S. Army Corps of Engineers and the states; increasing the abundance of fish and wildlife; improving wildlife-dependent recreation opportunities such as hunting, fishing, and wildlife observation; ensuring that traditional non-wildlife-dependent recreation remains compatible with the mission of the refuge system and the purposes of the refuge; and improving staffing and infrastructure capability.

The EIS evaluates four alternatives: (1) No action or current direction; (2) wildlife focus; (3) public use focus; and (4) wildlife and integrated public use focus (preferred). The alternatives differ mainly in the level of effort and resources given to fish and wildlife and habitat management and public use opportunities and programs. Under the preferred alternative all current recreational uses would continue, although the location, season of use, and means of use could change.

The National Wildlife Refuge System Administration Act of 1966, as amended by the National Wildlife Refuge System Improvement Act of 1997 (16 U.S.C. 668dd-668ee et seq) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: March 7, 2005.
Charles M. Wooley,
Acting Regional Director, U.S. Fish and Wildlife Service, Ft. Snelling, Minnesota.

[FR Doc. 05-8498 Filed 4-27-05; 8:45 am]

BILLING CODE 4310-55-P